DEPARTMENT OF AGRICULTURE

Forest Service

Madera County Resource Advisory Committee

AGENCY: Forest Service, USDA.

ACTION: Notice of Resource Advisory Committee meeting.

SUMMARY: Pursuant to the authorities in the Federal Advisory Committee Act of 1972 (Public law 92-463) and under the secure Rural Schools and Community Self-Determination Act of 2000 (Public Law 106-393) the Sierra National Forest's Resource Advisor Committee for Madera County will meet on Monday, November 18, 2002. The Madera Resource Advisory Committee will meet at the Yosemite Sierra Visitor Bureau, 40637 Highway 41, Oakhurst, CA. The purpose of the meeting is an update about the RAC presentation at the Madera County Board of Supervisor's meeting September 17, 2002, update RAC committee outreach, discuss a subject for a news article and develop a planning schedule for projects and project reviews.

DATES: The Madera Resource Advisory Committee meeting will be held Monday, November 18, 2002. The meeting will be held from 7 p.m. to 9 p.m.

ADDRESSES: The Madera County RAC meeting will be held at the Yosemite Sierra Visitor Bureau, 40637 Highway 41, Oakhurst, CA.

FOR FURTHER INFORMATION CONTACT: Dave Martin, U.S.D.A., Sierra National Forest, 57003 Road 225, North Fork, CA, 93643 (559) 877-2217 ext. 3100; e-mail: dmartin05@fs.fed.us.

SUPPLEMENTARY INFORMATION: Agenda items to be covered include: (1) Review Clover Meadow road project, (2) update on RAC committee outreach, and, (3) follow up on newspaper article, (4) have evaluation of past projects. The meeting is open to the public. Public input opportunity will be provided and individuals will have the opportunity to address the Committee at that time.

Dated: October 31, 2002.
David W. Martin,
District Ranger.

[FR Doc. 02-28053 Filed 11-4-02; 8:45 am]

BILLING CODE 3410-11-M